DEPARTMENT OF STATE

[Public Notice 4084]

FY 2002 Funding under the Research and Training for Eastern Europe and The Independent States of the Former Soviet Union Act of 1983 (Title VIII)

Deputy Secretary of State Richard L. Armitage approved on May 22, 2002, the FY 2002 funding recommendations of the Advisory Committee for the Study of Eastern Europe and the Independent States of the Former Soviet Union. The Title VIII program, administered by the U.S. Department of State, seeks to build expertise on the countries of Eurasia and Central and East Europe through support to national organizations in the U.S. for advanced research, language and graduate training, and other activities conducted domestically and on-site. The FY 2002 grant recipients are listed below.

1. American Council of Learned Societies

Grant: $480,000 (EE).

Purpose: To support dissertation and post-doctoral research fellowships; institutional language training grants in the U.S. covering the basic languages of Central and East Europe; individual language training fellowships; and the Junior Scholars' Training Seminar with the Woodrow Wilson Center.

Contact: Andrzej Tymowski, Executive Associate, American Council of Learned Societies, 663 Third Avenue, 8C, New York, NY 10017-6795. (212) 697-1505 (ext. 134/135). Fax (212) 949-8058. e-mail: ANDRZEJ@acls.org.

2. American Councils for International Education

Grant: $490,000 ($420,000-NIS, $70,000-EE/B).

Purpose: To support on-site individual language training fellowships in advanced Russian, the non-Russian languages of Eurasia, and the Central European languages; the Research Scholars and Junior Faculty fellowships; and the Combined Language Training and Research fellowships, including a Special Research Initiative on Central Asia; Research Scholar and Junior Faculty research fellowships.

Contact: Graham Hettlinger, American Councils for International Education, 1776 Massachusetts Avenue, NW, Suite 700, Washington, DC 20036. (202) 833-7522. Fax (202) 833-7523. e-mail: Hettlinger@actr.org.

3. The William Davidson Institute of the University of Michigan Business School

Grant: $210,000 (120,000-NIS; $90,000-EE/B).

Purpose: To support grants for pre- and post-doctoral research projects on economic and business development and public policy to develop free markets in the Balkans, Central Asia, and the Caucasus.

Contact: Deborah Jahn, Administrative Director, The William Davidson Institute, University of Michigan Business School, 724 East University Avenue, Ann Arbor, MI 48109-1234. (734) 615-4562. Fax (734) 763-5850. e-mail: djahn@umich.edu.

4. University of Illinois at Urbana-Champaign

Grant: $160,000 ($130,000-NIS; $30,000-EE/B).

Purpose: To support the Summer Research Laboratory, which provides dormitory housing and access to the University's library for advanced research, and the Slavic Reference Service, which locates materials unavailable through regular interlibrary loan.

Contact: Dianne Merridith, Program Administrator, Russian and East European Center, University of Illinois at Urbana-Champaign, 104 International Studies Building, 910 South Fifth Street, Champaign, IL 61820. (217) 333-1244. Fax (217) 333-1582. e-mail: reec@uiuc.edu.

5. International Research and Exchanges Board

Grant: $705,000 ($440,000-NIS; $265,000-EE/B).

Purpose: To support Individual Advanced Research Opportunities at the pre- and post-doctoral levels for on-site research; Short-term Travel Grants for senior scholars; a Regional Policy Symposium on Central Asia and Its Neighbors, in conjunction with the Woodrow Wilson Center; dissemination activities; and Policy Forums.

Contact: Joyce Warner, Director, Academic Exchanges and Research Division, International Research and Exchanges Board, 2121 K Street, NW., Suite 700, Washington, DC 20037. (202) 628-8188. Fax (202) 628-8189. e-mail: jwarner@irex.org.

6. National Council for Eurasian and East European Research

Grant: $1,175,000 ($900,000-NIS; $275,000-EE/B).

Purpose: To support the post-doctoral National Research Program of research contracts for collaborative projects and fellowship grants for individuals; Policy Research Fellowships in Eurasia and Central and East Europe for junior post-doctoral scholars; Short-term research grants to focus on Central Asia, Caucasus, and the Balkans; and the Ed. A. Hewett Fellowship Program to allow a scholar to work on a research project for up to a year while serving in a USG agency.

Contact: Robert Huber, President, National Council for Eurasian and East European Research, 910 17th Street, NW., Suite 300, Washington, DC 20006. (202) 822-6950. Fax (202) 822-6955. e-mail: nceeerdc@aol.com.

7. Social Science Research Council

Grant: $760,000 ($730,000-NIS, $30,000-Baltics).

Purpose: To support pre-doctoral fellowships, including advanced graduate and dissertation; post-doctoral fellowships; a dissertation workshop on understudied regions; and the institutional language programs for advanced Russian, other Eurasian languages, and the Baltic languages.

Contact: Seteney Shami, Program Director, Social Science Research Council, 810 7th Avenue, 31st Floor, New York, NY 10019. (212) 377-2700. Fax (212) 377-2727. e-mail: shami@ssrc.org.

8. The Woodrow Wilson Center for International Scholars

Grant: $770,000 ($490,000-NIS; $280,000-EE/B).

Purpose: To support the residential programs for post-doctoral Research Scholars, Short-term Scholars and Interns; the Meetings, Outreach and Publications Programs of the Kennan Institute for Advanced Russian Studies and East European Studies of the European Program, including the Kennan's Workshop on Conflict in the Former Soviet Union, and the East European Program's Junior Scholars' Training Seminar with the American Council of Learned Societies.

Contact: Nancy Popson, Deputy Director, Kennan Institute, (202) 691-4100. Fax (202) 691-4247. e-mail: popsonna@wwic.si.edu; or, Martin Sletzinger, Director, East European Studies, The Wilson Center, 1300 Pennsylvania Avenue, NW., Washington, DC 20004-3027. (202) 691-4263. Fax (202) 691-4247. e-mail: CrisenSa@wwic.si.edu.

Dated: August 21, 2002.
Kenneth E. Roberts,
Executive Director, Advisory Committee for Study of Eastern Europe and Independent States of the Former Soviet Union, Department of State.

[FR Doc. 02-21770 Filed 8-26-02; 8:45 am]

BILLING CODE 4710-32-P